ENVIRONMENTAL PROTECTION AGENCY

[OPP-00729; FRL-6790-8]

National Assessment of the Worker Protection Program-Workshop #3; Notice of Public Meeting

AGENCY: Environmental Protection Agency (EPA).

ACTION: Notice.

SUMMARY: The National Assessment of the Worker Protection Program-Workshop #3 will be held in Lake Buena Vista, Florida. The purpose of this meeting is to continue the nationwide assessment of the agricultural worker protection program. The regulation (40 CFR part 170) that implements this program was fully implemented in 1995. The national assessment meeting is being co-hosted by the National Environmental Education and Training Foundation and EPA's Office of Pesticide Programs. The meeting will continue discussions of the agricultural worker protection regulation, the implementation and effectiveness of its provisions, the enforcement at the state level, and the possible future directions for the program. This is the third in a series of workshops and represents an opportunity for EPA, states, agricultural employers, worker representatives, and other program stakeholders to engage in problem solving workgroup discussions on major aspects of the regulation. The first workshop was held on June 6-7, 2000, in Austin, Texas and the second workshop was held in Sacramento, California on December 11-13, 2000.

DATES: The meeting will be held July 30 to August 1, 2001 from 8 a.m to 5:30 p.m.

ADDRESS: The meeting will be held at the Hilton, 1751 Hotel Plaza Boulevard, P.O. Box 22781, Lake Buena Vista, FL; 32830-2781; telephone number: (407) 827-4000.

FOR FURTHER INFORMATION CONTACT: Sara Ager, Field and External Affairs Division (7506C), Office of Pesticide Programs, Environmental Protection Agency, 1200 Pennsylvania Avenue, NW., Washington, DC 20460; telephone number: (703) 305-7666; e-mail address: Ager.Sara@epa.gov.

SUPPLEMENTARY INFORMATION:

1. Does this Action Apply to Me?

This action is directed to the public in general, however, the size of the meeting facilities could limit the number of participants. This action may be of interest to farm worker groups, agricultural employers, state governments, county extension services, and pesticide product manufacturers. If you have any questions regarding the applicability of this action to a particular entity, consult the party listed under FOR FURTHER INFORMATION CONTACT.

II. How Can I Get Additional Information, Including Copies of this Document or Related Documents?

Electronically. You may obtain electronic copies of this document, and certain other related documents that might be available electronically, from the EPA Internet Home Page at http://www.epa.gov/. You may also go directly to the Federal Register listing at http://www.epa.gov/fedrgstr/.

III. How Can I Request to Participate in this Meeting and is There a Deadline?

You may request to participate in and register for this meeting by phone, by fax, through the mail, or electronically by no later than June 28, 2001 to: Meetings Management, Inc., P.O. Box 30045, Alexandria, VA. 22310, telephone number: (703) 922-7944; Fax number: (703) 922-7780; e-mail address: Mmagnini@BellAtlantic.net. Since space is limited, we recommend registering as soon as possible. We discourage people from registering on-site as facilities are limited. Please also note that you must make your own hotel room reservations.

The National Assessment of the Worker Protection Program-Workshop #3 will continue workgroup discussions about EPA's national agricultural worker protection program implementation and effectiveness as related to training, enforcement, compliance, and communications.

List of Subjects

Environmental protection; Pesticides.

Dated: June 20, 2001.
Jay Ellenberger,
Director, Field and External Affairs Division,Office of Pesticide Programs.

[FR Doc. 01-16572 Filed 6-29-01; 8:45 a.m.]

BILLING CODE 6560-50-S